DEPARTMENT OF JUSTICE

Notice of Lodging of Consent Decree Under The Comprehensive Environmental Response, Compensation, and Liability Act

Notice is hereby given that on March 14, 2000, a complaint and a proposed consent decree in United States and the State of Colorado v. Beazer East, Inc. and Butala Construction Company, Civil Action No. 00-561, were lodged with the United States District Court for the District of Colorado.

In this action, the United States seeks recovery of approximately $631,000 in unreimbursed response costs incurred in relation to Operable Unit #2 of the Smeltertown Superfund Site, located near Salida, Colorado, under Section 107(a) of the Comprehensive Environmental Response, Compensation, and Liability Act. The State of Colorado seeks recovery of response costs to be incurred at the Site. Under the proposed decree, the defendants will implement a remedial action selected by the United States Environmental Protection Agency, which is designed to prevent the further migration of hazardous substances at Operable Unit #2, and will reimburse all of EPA's past costs, as well as all of EPA's and the State of Colorado's future response costs incurred at Operable Unit #2.

The Department of Justice will receive for a period of thirty (30) days from the date of this publication comments relating to the proposed consent decree. Comments should be addressed to the Assistant Attorney General of the Environment and Natural Resources Division, Department of Justice, Washington, DC 20530, and should refer to United States and State of Colorado v. Beazer East, Inc. and Butala Construction Company, D.J. Ref. 90-11-3-1522.

The propose consent decrees may be examined at the Office of the United States Attorney, 1961 Stout Street, 11th Floor, Drawer 3608, Denver, CO 80294; at U.S. EPA Region VIII, 999 18th Street, Denver, Colorado 80202; and at the Consent Decree Library, P.O. U.S. Department of Justice, P.O. Box 7611, Washington, DC 20044-7611. In requesting a copy, please enclose a check in the amount of $20.00 (25 cents per page reproduction cost) payable to the Consent Decree Library.

Joel M. Gross,
Chief, Environmental Enforcement Section, Environment and Natural Resources Division.

[FR Doc. 00-9743 Filed 4-18-00; 8:45 am]

BILLING CODE 4410-15-M